DEPARTMENT OF TRANSPORTATION

Global Positioning System Adjacent Band Compatibility Assessment Workshop II

AGENCY: Office of the Assistant Secretary for Research and Technology, Department of Transportation.

ACTION: Notice of meeting.

SUMMARY: The purpose of this notice is to inform the public that the U.S. Department of Transportation will host a second workshop to continue discussions of the Global Positioning System (GPS) Adjacent Band Compatibility Assessment (the first workshop was held on September 18, 2014, in Cambridge, MA). The workshop will focus on the following topics: (i) GPS “use case” information, with emphasis on non-Government applications; (ii) identification of current GPS receivers which are representative of the current categories of GPS applications and which should be considered for sensitivity testing; and (iii) feedback on the GPS Adjacent Band Compatibility Assessment program implementation plan presented during the last workshop. To maximize participation and discussion, the U.S. Department of Transportation is requesting that those interested in presenting on one (or all) of the above topics please contact Stephen Mackey (contact information listed below) by November 20, 2014.

This workshop is open to the general public by registration only. For those who would like to attend the workshop, we request that you register no later than November 20, 2014. Please use the following link to register: https://volpecenterevents.webex.com/volpecenterevents/onstage/g.php?d=660350730&t=a

You must include:

• Name

• Organization

• Telephone number

• Mailing and email addresses

• Attendance method (WebEx or on site)

• Country of citizenship

• Intend to present (Yes/No)

○ If Yes, topic and title

The U.S. Department of Transportation is committed to providing equal access to this workshop for all participants. If you need alternative formats or services because of a disability, please contact Stephen Mackey (contact information listed below) with your request by close of business November 20, 2014.

DATES: Date/Time: December 4, 2014 10 a.m.-5 p.m. (Pacific Standard Time).

Location: Aerospace Corporation, 2310 E. El Segundo Blvd. El Segundo, CA 90245.

Identification will be required at the entrance of Aerospace Corporation facility (Passport, state ID, or Federal ID). Several Days leading up to the workshop, an email containing the Agenda, Dial-in, and WebEx information will be provided.

FOR FURTHER INFORMATION CONTACT: Stephen M. Mackey, U.S. Department of Transportation, John A. Volpe National Transportation Systems Center, RVT-75, Cambridge, MA 02142

Stephen.Mackey@dot.gov Telephone: 617-494-2753

Issued in Washington, DC, on November 4, 2014.
Gregory D. Winfree,
Assistant Secretary for Research and Technology.

[FR Doc. 2014-26974 Filed 11-13-14; 8:45 am]

BILLING CODE 4910-9X-P